DEPARTMENT OF TRANSPORTATION

Transportation Security Administration

49 CFR Part 1510

[Docket No. TSA-2001-11120]

RIN 2110-AA01

Imposition and Collection of Passenger Civil Aviation Security Service Fees

AGENCY: Transportation Security Administration, DOT.

ACTION: Partial waiver of independent audit requirement of final rule.

SUMMARY: Under specified conditions and until further notice, the Transportation Security Administration (TSA) will not enforce certain independent audit requirements related to the September 11th Security Fee collected by direct air carriers and foreign air carriers. This partial waiver is because the audit may not be necessary and may be overly burdensome.

DATES: Effective January 23, 2003.

FOR FURTHER INFORMATION CONTACT: For guidance on technical matters contact Randall Fiertz, Acting Director of Revenue, (202) 385-1209. For guidance on legal or other matters contact Steven Cohen, Office of Chief Counsel, (202) 493-1216.

SUPPLEMENTARY INFORMATION: In order to offset the costs of providing certain civil aviation security services, TSA imposed a uniform security service fee, the September 11th Security Fee (fee), on passenger enplanements for certain flights originating at airports in the United States. The interim final rule for the fee was published in the Federal Register on December 31, 2001, amended on March 28, 2002, and codified at 49 CFR part 1510. Section 1510.9 requires direct air carriers and foreign air carriers to collect and remit the fee. Section 1510.15(b) requires carriers that collect the fee from more than 50,000 passengers annually to provide for an annual audit of their security service fee activities and accounts. Section 1510.15(c) requires that the audit be performed by an independent public certified accountant, that the auditor express an opinion on the fairness and reasonableness of the carrier's procedures for collecting, holding and remitting the fee, and that the audit address whether the quarterly reports required in § 1510.17 fairly represent the net transactions in the carrier's security service fee accounts.

Since issuing the interim final rule, TSA has reviewed several comments in the public docket, Docket No. TSA-2001-11120, concerning the relative burdens and benefits of independent audits for this fee. In light of the high cost of independent audits; the economic condition of the aviation industry; the fact that TSA, in conjunction with other Federal agencies, is initiating its own reviews of fee payments by selected carriers; and TSA's confidence that the aviation industry has demonstrated a high level of compliance with 49 CFR part 1510 thus far, TSA has determined that it may not be necessary for the carriers to expend the resources necessary to provide for independent audits regarding the fee.

By this document, TSA waives enforcement of the requirement in 49 CFR 1510.15(b) that carriers provide for annual independent audits of their September 11th Security Fees. Notwithstanding this suspension of the audit requirement, carriers must still comply with the record keeping requirements of § 1510.15(a) and fully cooperate with Federal oversight efforts conducted pursuant to § 1510.19, which authorizes representatives of the Secretary of Transportation, the Under Secretary of Transportation for Security, the Inspector General of the Department of Transportation, or the Comptroller General of the United States to audit or review the carriers' books or records. TSA is not waiving or deferring enforcement of any other requirement set forth in 49 U.S.C. 44940, 49 CFR part 1510, or the audit requirement pertaining to the Aviation Security Infrastructure Fee imposed on carriers in 49 CFR part 1511.

Upon conducting its own reviews of fee payments by carriers (including those conducted by or jointly with other Federal agencies), TSA will determine whether to eliminate the independent audit requirement or to rescind this waiver and reinstate the independent audit requirement. If TSA decides to eliminate the requirement, an amendment to 49 CFR part 1510 will be published in the Federal Register. If TSA decides to rescind the waiver a document will be published in the Federal Register at least 90 days in advance of its effectiveness.

Issued in Washington, DC, on January 14, 2003.
James M. Loy,
Under Secretary of Transportation for Security.

[FR Doc. 03-1487 Filed 1-22-03; 8:45 am]

BILLING CODE 4910-62-P